DEPARTMENT OF HEALTH AND HUMAN SERVICES

Health Resources and Services Administration

National Practitioner Data Bank; Name Change of Proactive Disclosure Service (PDS) to Continuous Query

AGENCY: Health Resources and Services Administration, HHS.

ACTION: Notice.

SUMMARY: On March 7, 2007, the Health Resources and Services Administration (HRSA), Department of Health and Human Services (HHS), published in the Federal Register a notice announcing the implementation of a prototype for querying the National Practitioner Data Bank (NPDB), then known as Proactive Disclosure Service (PDS). This notice announces that the prototype status is removed and that PDS is now known as Continuous Query.

DATES: The effective date of this status upgrade and name change is September 23, 2011.

FOR FURTHER INFORMATION CONTACT: Director, Division of Practitioner Data Banks, Bureau of Health Professions, Health Resources and Services Administration, Parklawn Building, 5600 Fishers Lane, Room 8-103, Rockville, MD 20857; telephone number: (301) 443-2300.

SUPPLEMENTARY INFORMATION:

I. Background

On March 7, 2007, the National Practitioner Data Bank (NPDB) published in the Federal Register (72 FR 10227) a notice announcing a Proactive Disclosure Service (PDS) prototype. The PDS was offered as an alternative to the traditional querying of the NPDB and allowed for on-going monitoring of a practitioner's credentials. PDS is a subscription service that notifies subscribers, which are registered entities that are eligible to query the NPDB or the Healthcare Integrity and Protection Data Bank (HIPDB), of new information on any of their enrolled practitioners within 24 hours of the NPDB or HIPDB receipt of the information. The PDS prototype was available for enrollment beginning on April 30, 2007 to a select group of NPDB registered entities. A few months later PDS was opened to all NPDB registered entities, as well as to those registered in the HIPDB. In the last year (July 1, 2010 through June 30, 2011), 1,965 entities had practitioner enrollments through PDS versus 14,370 entities that submitted traditional queries on practitioners in the NPDB. Unlike a traditional query, PDS enrolled practitioners are continuously monitored and subscribed entities need not pay for multiple queries each time they want to access new information on a practitioner. The following table charts the growth of PDS enrollments beginning in June 2007 through June 2010 for the NPDB and the HIPDB:

Number of Practitioners Enrolled in PDS
Month/year | NPDB | HIPDB
June 2010 | 481,794 | 125,649
June 2009 | 311,275 | 101,720
June 2008 | 113,631 | 12,592
June 2007 | 47,641 | 2,005

The number of enrollments is steadily climbing and re-enrollment rates for this service are approximately 90 percent. This service is quickly becoming the benchmark for monitoring practitioner credentials because it is designed and developed to meet new accreditation standards that require on-going monitoring of practitioners. In light of these developments, HRSA is making this service a permanent feature. The name change from PDS to Continuous Query better captures the true nature of this service, which is the continuous monitoring of enrolled practitioners.

All aspects of the PDS querying service as described in the March 7, 2007 notice are still in effect except for the upgrade from prototype to permanent status and the name change set forth in this notice.

II. Revisions to Previous Notice

This notice is to inform the public that the prototype status for PDS is removed and that the name of the PDS querying service has been changed to Continuous Query.

Dated: September 16, 2011.
Mary K. Wakefield,
Administrator, Health Resources and Services Administration.

[FR Doc. 2011-24403 Filed 9-22-11; 8:45 am]

BILLING CODE 4165-15-P